DEPARTMENT OF THE INTERIOR

Fish and Wildlife Service

[Docket No. FWS-HQ-IA-2017-0012; FF09A30000FXIA1671090000178]

Draft Environmental Assessment; Export Program for Certain Native Species Under the Convention on International Trade in Endangered Species of Wild Fauna and Flora

AGENCY: Fish and Wildlife Service, Interior.

ACTION: Notice of availability; request for public comments.

SUMMARY: We, the U.S. Fish and Wildlife Service (Service), announce the availability of a draft environmental assessment (EA) in accordance with the National Environmental Policy Act (NEPA) for our CITES Export Program (CEP) for certain native furbearer species. Some native furbearers are listed under the Convention on International Trade in Endangered Species of Wild Fauna and Flora (CITES, or Convention), including bobcat (Lynx rufus), river otter (Lontra canadensis), Canada lynx (Lynx canadensis), gray wolf (Canis lupus), and brown bear (Ursus arctos). These species have been listed in CITES Appendix II since the 1970s. Export from the United States of specimens of CITES Appendix-II species requires a CITES export permit issued by the Service. We have decided to prepare an EA on our export program for certain native furbearer species to help us conduct a thorough review of all relevant factors and potential impacts on the quality of the human environment as envisioned under NEPA.

DATES: We will consider all information and comments we receive on or before April 10, 2017.

ADDRESSES: Written comments: You may submit comments pertaining to the draft EA by one of the following methods:

• Federal eRulemaking Portal: http://www.regulations.gov. In the Search box, enter FWS-HQ-IA-2017-0012, which is the docket number for this notice. Click “Comment Now!” to comment.

• U.S. mail or hand-delivery: Public Comments Processing, Attn: FWS-HQ-IA-2017-0012, Division of Policy, Performance, and Management Programs; U.S. Fish and Wildlife Service; 5275 Leesburg Pike; MS: BPHC; Falls Church, VA 22041.

We request that you send comments by only one of the methods described above. All information received will be posted on http://www.regulations.gov. This generally means that we will post any personal information you provide us (see Public Availability of Comments, below, for more information).

Availability of documents: You may obtain copies of the draft EA and related documents:

• On the Internet: http://www.regulations.gov. In the Search box, enter FWS-HQ-IA-2017-0012, which is the docket number for this notice. Click the “Open Docket Folder” link.

• In person, by appointment and written request only, from 8 a.m. to 4 p.m. at: U.S. Fish and Wildlife Service, Division of Management Authority, 5275 Leesburg Pike, Falls Church, VA 22041.

FOR FURTHER INFORMATION CONTACT: Craig Hoover, Chief, Division of Management Authority, U.S. Fish and Wildlife Service, MS: IA; 5275 Leesburg Pike, Falls Church, VA 22041-3803; telephone 703-358-2095; facsimile 703-358-2298. If you use a telecommunications device for the deaf (TDD), call the Federal Relay Service at 800-877-8339.

SUPPLEMENTARY INFORMATION: We are making available a draft environmental assessment (EA) under the National Environmental Policy Act of 1969 (NEPA); 42 U.S.C. 4321 et seq., for the U.S. CITES Export Program (CEP) for certain native furbearer species listed under the Convention on International Trade in Endangered Species of Wild Fauna and Flora (CITES), 27 U.S.T. 1087 (March 3, 1973). Bobcat (Lynx rufus), river otter (Lontra canadensis), Canada lynx (Lynx canadensis), gray wolf (Canis lupus), and brown bear (Ursus arctos) have been listed in CITES Appendix II since the 1970s. CITES documents are required for export of these species from the United States, including parts and products of these species. Before a permit can be issued for the export of an Appendix-II species, the Service must be able to determine that the export will not be detrimental to the survival of the species and that the specimens to be exported have not been obtained in violation of laws for their protection.

Export from the United States of specimens of CITES Appendix-II species requires a CITES export permit issued by the Service. Our CITES-implementing regulations are found in title 50 of the Code of Federal Regulations (CFR) at part 23 (50 CFR part 23). Under the Department of the Interior policy and procedures for the U.S. Fish and Wildlife Service, the issuance, denial, suspension, and revocation of permits for activities involving fish, wildlife or plants, including permits involving species listed under CITES, are categorically excluded from the requirement for preparation of an EA or an EIS under NEPA when such permits cause no or negligible environmental disturbance (Departmental Manual, part 516, chapter 8.5, paragraph C(1)). However, we have prepared a draft EA on our CEP for certain native furbearer species to ensure that we have conducted a thorough review of all relevant factors and potential impacts on the quality of the human environment as envisioned under NEPA. This draft EA considers the direct, indirect, and cumulative effects of the U.S. CEP for bobcat, river otter, Canada lynx, gray wolf, and brown bear harvested in the United States.

Service regulations governing the export of bobcat, river otter, Canada lynx, gray wolf, and brown bear harvested in the United States are set forth at 50 CFR 23.69. Our regulations allow States and Tribes to request approval for participation in our CEP for these native furbearers. States and Tribes set up and maintain management and harvest programs designed to monitor and protect CITES furbearers from overharvest. When a State or Tribe with a management program provides the Service with the necessary information, we make programmatic findings and have specific requirements that allow export under CITES. We must still issue a CITES export permit for each export, but the CEP provides for a more streamlined and efficient permitting process. Under the CEP, a State or Tribe must provide sufficient information for us to determine that its management program and harvest controls are appropriate to ensure that CITES furbearers harvested within its jurisdiction are legally acquired and that export will not be detrimental to the survival of the species in the wild.

Proposed Action

The proposed action, which is also the “no action” alternative and the preferred alternative, is to continue the CEP in its current form, which includes the mandatory tagging of skins of bobcat, river otter, Canada lynx, gray wolf, and brown bear to be exported from the United States, as required under our current regulations at 50 CFR 23.69. The species of furbearers included in this EA are managed by the wildlife agencies of individual States and Tribes. The CEP in its current form allows for regular review of approved export programs for these species, including through annual reporting by approved programs. States and Tribes provide data to the Service on a voluntary basis to qualify their species for export and, once approved, must report annually on any changes to the applicable State or tribal regulations or the status of the species in those jurisdictions. The proposed action, and preferred alternative, will facilitate the continued efficient export of these species from the United States, thereby allowing access to international markets, while still meeting CITES requirements. The CEP for these species has proven to be effective over the past 40 years by allowing the Service to fulfill its obligations regarding these species pursuant to CITES. The proposed action, and the Convention it implements, only applies to international trade. The proposed action does not include State and tribal programs for these species. States and Tribes regulate the take of these species through their own management programs.

Alternatives

We are also considering three alternatives to the proposed action:

1. No Tag Alternative—Under this alternative, the Service would not issue tags or require skins to be tagged prior to export. Our current regulations require the tagging of the skins of these species (unless an alternative method has been approved) in order for the skins to be eligible for export under the CEP. This tagging requirement is not a CITES requirement; it is a stricter domestic measure promulgated by the Service through the U.S. CITES implementing regulations. Under our current regulations, the Service could institute a different verification system for legal acquisition that relies on paper recordkeeping at the State, tribal, or exporter level, provided such an alternative method is able to provide us with the necessary information to make the required findings to allow export under CITES. This could consist of affidavits or trapper diaries or other bookkeeping mechanisms if they provide substantially the same information as the tagging system. This no tag alternative is essentially a substitute for the tagging system. This alternative would require devising a new chain-of-custody documentation system, and would require re-educating trappers, exporters, and State and Federal law enforcement on the new system.

2. No Permit Alternative—This alternative would require the Service to revise 50 CFR 23.69 so that no export of these species legally taken from the wild is permitted. Under the no permit alternative, these species and their parts and products taken from the wild could not be exported, even where the required findings to allow export under CITES can be made. Skins from captive-bred animals would be eligible for export; however, currently there is very little captive production of these species for commercial trade. Operation of the CEP for these five species over the past 40 years has demonstrated that the export of these species from the United States does not threaten their survival in the wild and may be authorized consistent with CITES. Elimination of export approval for specimens of these species taken from the wild would not further the purposes of CITES, when we are able to make the required determinations that the specimens were legally acquired and that the export is not detrimental to the survival of the species.

3. No Approved CITES Export Program Alternative—Currently, when a State or Tribe with a management program designed to monitor and protect CITES furbearers from overharvest provides us with the necessary information, we make programmatic findings and have specific requirements that allow export under CITES for these CITES furbearers harvested within their jurisdictions. While permits are still required, approval of State or tribal export programs facilitates the permitting process by allowing us to issue permits more efficiently. Under this alternative, the Service would no longer approve State or tribal export programs, but individuals may still seek permits on a case-by-case basis for each specimen to be exported. This would also require the Service to make individual legal acquisition findings for each specimen to be exported, as the Service currently does for specimens originating from States or Tribes without an approved program. This alternative would increase the length of time for exporters to obtain permits and would be overly burdensome to both the Service and exporters.

Public Availability of Comments

We will not consider comments sent by email or fax, or to an address not listed above in ADDRESSES. Comments and materials we receive in response to this notice will be available for public inspection on http://www.regulations.gov or by appointment, between 8 a.m. and 4 p.m. Monday through Friday, except Federal holidays, at the U.S. Fish and Wildlife Service, Division of Management Authority, 5275 Leesburg Pike, 2nd Floor, Falls Church, VA 22041; telephone 703-358-2095.

Written comments that we receive become part of the public record associated with this action. Before including your address, phone number, email address, or other personal identifying information in your comment, you should be aware that your entire comment—including your personal identifying information—maybe made publicly available at any time. While you may request in your comment that we withhold your personal identifying information from public review, we cannot guarantee that we will be able to do so. All submissions from organizations or businesses, and from individuals identifying themselves as representatives or officials of organizations or businesses, will be made available for public disclosure in their entirety.

Authority

We provide this notice under NEPA (42 U.S.C. 4321 et seq.) and its implementing regulations (40 CFR 1506.6).

Dated: March 7, 2017.
James W. Kurth,
Acting Director, Fish and Wildlife Service.

[FR Doc. 2017-04872 Filed 3-8-17; 4:15 pm]

BILLING CODE 4333-15-P